DEPARTMENT OF TRANSPORTATION

Federal Aviation Administration

Notice of Release From Federal Surplus Property and Grant Assurance Obligations at Charles M. Shulz—Sonoma County Airport (STS), California

AGENCY: Federal Aviation Administration, DOT.

ACTION: Notice of Request to Release Airport Land.

SUMMARY: The Federal Aviation Administration (FAA) proposes to rule and invites public comment on the application for a land use change of approximately 14.5 acres of airport property at the Charles M. Shulz—Sonoma County Airport (STS), Santa Rosa, California from the conditions for aviation use contained in the Surplus Property Deed and Grant Assurances because the parcel of land is needed for other than airport operational purposes. The parcel is located outside the airport's Active Operations Area (AOA) and separated from the AOA by the airport's perimeter fence. The 14.5 acres of airport land is presently being utilized by Sonoma County, the owner of STS, as a mitigation preserve and is identified as a suitable location for the United States Fish and Wildlife Service (USFWS) required 2.0 acres mitigation for the STS Runway Safety Area (RSA) Improvement Project. The County proposed non-aeronautical use will be compatible with the airport and will not interfere with the airport or its operation.

DATES: Comments must be received on or before March 8, 2018.

FOR FURTHER INFORMATION CONTACT: Comments on the request may be mailed or delivered to the FAA at the following address: Mr. Fernando Yanez, Lead Program Manager, Federal Aviation Administration, San Francisco Airports District Office, Federal Register Comment, 1000 Marina Boulevard, Suite 220, Brisbane, CA 94005. In addition, one copy of the comment submitted to the FAA must be mailed or delivered to Mr. Jon G. Stout, Airport Manager, Charles M. Schulz—Sonoma County Airport, 2290 Airport Boulevard, Santa Rosa, CA 95403.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The County of Sonoma, California requested a release from Federal surplus property and grant assurance obligations for approximately 14.5 acres of airport land to allow for a land-use change for non-aeronautical purposes to place a conservation easement approximately 1,600 feet east of Runway 14 end, south of the AOA, and separated by the airport perimeter fence. The parcel contains a wooded riparian/creek corridor and approximately 4.5 acres of seasonal wetlands that were established in 1999 as off-site mitigation for other projects in the vicinity. The airport parcel was acquired in 1994 with Airport Improvement Program funds to protect the operation of an adjacent FAA radio transmitter receiver, to prevent incompatible land use development that may interfere with the antenna field, and to provide noise buffering. The airport pursuant to the Surplus Property Act of 1944 was deeded to the County of Sonoma on June 20, 1949. The establishment of a conservation easement over the parcel is required to do the mitigation work that includes the 2.0 acres mitigation to enhance and preserve an endangered plant species, Burke's goldfields, as part of the compensation and required mitigation for the STS RSA Improvement Project. The land use change will enable the County to meet the requirements of the Biological Opinion issued by the United States Fish and Wildlife Service in connection with the RSA Project. The FAA issued a Record of Decision, a Finding of No Significant Impact on July 19, 2013 for the RSA Project that required implementation of mitigation measures. The easement will contain provisions to continue the purpose of the 1994 County's acquisition of the parcel to protect the nearby antenna field. The parcel will also continue to act as a noise buffer from the airport since the parcel will not serve a commercial or aeronautical purpose. The use of the property will not interfere with the airport or its operations, thereby serving the interests of civil aviation.

Issued in Brisbane, California, on January 29, 2018.
Anthony M. Butters,
Acting Manager, San Francisco Airports District Office, Western-Pacific Region.

[FR Doc. 2018-02334 Filed 2-5-18; 8:45 am]

BILLING CODE 4910-13-P